DEPARTMENT OF COMMERCE

Bureau of Industry and Security

[Docket No. 080229350-8450-03]

Request for Public Comments on Crime Control License Requirements in the Export Administration Regulations

AGENCY: Bureau of Industry and Security, Commerce.

ACTION: Notice of Inquiry, Correction.

SUMMARY: This notice corrects a transposition error in the address for submitting comments to a notice of inquiry published on March 19, 2007 (73 FR 14769). The reference to room H-7205 should have read H-2705. As corrected, the final sentence of the addresses paragraph reads:

ADDRESSES: * * * Comments may also be submitted by e-mail directly to BIS at publiccomments@bis.doc.gov or on paper to U.S. Department of Commerce, Bureau of Industry and Security, Regulatory Policy Division, Room H-2705, Washington DC 20230.

Dated: March 20, 2008
Eileen Albanese,
Director, Office of Exporter Services.

[FR Doc. E8-6175 Filed 3-25-08; 8:45 am]

BILLING CODE 3510-33-P